DEPARTMENT OF ENERGY

Federal Energy Regulatory Commission

Combined Notice of Filings

Take notice that the Commission has received the following Natural Gas Pipeline Rate and Refund Report filings:

Filings Instituting Proceedings

Docket Numbers: RP19-1505-001.

Applicants: Gulf South Pipeline Company, LP.

Description: Tariff Amendment: Amendment to Filing in Docket No. RP19-1505-000 to be effective 9/1/2019.

Filed Date: 9/3/19.

Accession Number: 20190903-5077.

Comments Due: 5 p.m. ET 9/16/19.

Docket Numbers: RP19-1534-000.

Applicants: Equitrans, L.P.

Description: § 4(d) Rate Filing: Negotiated Capacity Release Agreements—9/1/2019 to be effective 9/1/2019.

Filed Date: 9/3/19.

Accession Number: 20190903-5008.

Comments Due: 5 p.m. ET 9/16/19.

Docket Numbers: RP19-1535-000.

Applicants: Texas Gas Transmission, LLC.

Description: § 4(d) Rate Filing: Cap Rel Neg Rate Agmts (Gulfport 34939, 35446 to Eco-Energy 38193, 38194) to be effective 9/1/2019.

Filed Date: 9/3/19.

Accession Number: 20190903-5074.

Comments Due: 5 p.m. ET 9/16/19.

Docket Numbers: RP19-1536-000.

Applicants: Gulf South Pipeline Company, LP.

Description: § 4(d) Rate Filing: Amendment to Neg Rate Agmt (Colorado Bend 46260) to be effective 9/1/2019.

Filed Date: 9/3/19.

Accession Number: 20190903-5075.

Comments Due: 5 p.m. ET 9/16/19.

Docket Numbers: RP19-1537-000.

Applicants: Gulf South Pipeline Company, LP.

Description: § 4(d) Rate Filing: Cap Rel Neg Rate Agmt (Constellation 51462 to Exelon 51517) to be effective 9/1/2019.

Filed Date: 9/3/19.

Accession Number: 20190903-5076.

Comments Due: 5 p.m. ET 9/16/19.

Docket Numbers: RP19-1538-000.

Applicants: Rockies Express Pipeline LLC.

Description: § 4(d) Rate Filing: Neg Rate 2019-09-03 Encana to be effective 9/1/2019.

Filed Date: 9/3/19.

Accession Number: 20190903-5129.

Comments Due: 5 p.m. ET 9/16/19.

Docket Numbers: RP19-1539-000.

Applicants: Gulf South Pipeline Company, LP.

Description: § 4(d) Rate Filing: New Firm and Interruptible Lateral Service (Rate Schedules FLS and ILS) to be effective 10/4/2019.

Filed Date: 9/3/19.

Accession Number: 20190903-5137.

Comments Due: 5 p.m. ET 9/16/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 4, 2019.
Nathaniel J. Davis, Sr.,
Deputy Secretary.

[FR Doc. 2019-19473 Filed 9-9-19; 8:45 am]

BILLING CODE 6717-01-P